DEPARTMENT OF VETERANS AFFAIRS

[OMB Control No. 2900-0156]

Agency Information Collection Activity: Notice of Change in Student Status

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before June 20, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0156 in any correspondence.

FOR FURTHER INFORMATION CONTACT: Cynthia Harvey-Pryor, Department Clearance Officer—OI&T (005R1B), Department of Veterans Affairs, 810 Vermont Avenue NW, Washington, DC 20420, (202) 461-5870 or email Cynthia.harvey.pryor@va.gov. Please refer to “OMB Control No. 2900-0156.”

SUPPLEMENTARY INFORMATION:

Authority: 44 U.S.C. 3501-3521; 38 U.S.C. 3020.

Title: Notice of Change in Student Status (VA Form 22-1999b).

OMB Control Number: 2900-0156.

Type of Review: Reinstatement with change of previously approved collection.

Abstract: The Federal Register Notice with a 60-day comment period soliciting comments on this collection of information was published on Tuesday, February 13, 2018, Vol. 83, No. 30, page 6311.

Affected Public: Individuals and Households.

Estimated Annual Burden: 57,009 hours.

Estimated Average Burden per Respondent: 15 minutes (electronic); 20 minutes (paper).

Frequency of Response: Once Annually.

Estimated Number of Respondents: 184,894.

By direction of the Secretary.
Cynthia D. Harvey-Pryor,
Department Clearance Officer, Office of Quality, Privacy and Risk, Department of Veterans Affairs.

[FR Doc. 2018-10739 Filed 5-18-18; 8:45 am]

BILLING CODE 8320-01-P